DEPARTMENT OF ENERGY

Federal Energy Regulatory Commission

[Docket No. CP19-484-000; Docket No. CP19-488-000]

Notice of Schedule for Environmental Review of the Kinder Morgan Louisiana Pipeline LLC Acadiana Project and Columbia Gulf Transmission, LLC Louisiana Xpress Project

On June 28, 2019, Kinder Morgan Louisiana Pipeline LLC (KMLP) filed an application in Docket No. CP19-484-000 requesting a Certificate of Public Convenience and Necessity pursuant to Section 7(c) of the Natural Gas Act to construct and operate certain natural gas pipeline facilities in Louisiana. The proposed project is known as the Acadiana Project, and would increase the north-south natural gas delivery capacity on its pipeline system by approximately 894 million cubic feet per day. According to KMLP, its project would meet the needs of Sabine Pass Liquefaction, LLC at its liquefied natural gas export terminal in Cameron Parish, Louisiana.

On July 16, 2019, Columbia Gulf Transmission, LLC (Columbia Gulf) filed an application in Docket No. CP19-488-000 requesting a Certificate of Public Convenience and Necessity pursuant to Section 7(c) of the Natural Gas Act to construct and operate certain natural gas pipeline facilities in Louisiana. The proposed project is known as the Louisiana Xpress Project, and would provide open access firm transportation of about 850 million cubic feet of natural gas per day from a primary receipt point at Columbia Gulf's Mainline Pool to a primary delivery point at an interconnection with KMLP in Evangeline Parish, Louisiana.

On July 12, 2019, the Federal Energy Regulatory Commission (Commission or FERC) issued its Notice of Application (NOA) for the Acadiana Project, and on July 26, 2019, FERC issued its NOA for the Louisiana Xpress Project. Among other things, the notices alerted agencies issuing federal authorizations of the requirement to complete all necessary reviews and reach a final decision on a request for a federal authorization within 90 days of the date of issuance of the Commission staff's Environmental Assessment (EA) for the projects. This instant notice identifies the FERC staff's planned schedule for the completion of the combined EA for both projects.

Schedule for Environmental Review

Issuance of EA—February 8, 2020

90-day Federal Authorization Decision Deadline—May 9, 2020

If a schedule change becomes necessary, additional notice will be provided so that the relevant agencies are kept informed of the projects' progress.

Project Descriptions

Acadiana Project

KMLP proposes to install three new natural gas-fired compressor units (31,900 horsepower [hp] each) and re-wheel two existing compressor units at its existing Compressor Station 760 in Acadia Parish, make modifications to meter piping and new control valves at its existing Columbia Gulf Meter Station in Evangeline Parish, as well as install auxiliary facilities at both locations.

Louisiana Xpress Project

Columbia Gulf proposes to construct and operate three new greenfield compressor stations, and modify one existing compressor station. Each new compressor station (Shelburn Compressor Station in East Carroll Parish, Red Mountain Compressor Station in Catahoula Parish, and Chicot Compressor Station in Evangeline Parish) would include two 23,470 hp natural gas turbine driven compressors (totaling 46,940 hp), filter/separators, gas cooling bays, 48-inch-diameter suction and 42-inch-diameter discharge piping, and related appurtenant facilities.

Modifications to the existing Alexandria Compressor Station in Rapides Parish would include additional cooling bays with associated piping and appurtenant facilities.

Background

On August 28, 2019, the Commission issued a Notice of Intent to Prepare an Environmental Assessment for the Proposed Acadiana Project and Request for Comments on Environmental Issues (NOI). Also on August 28, 2019, the Commission issued a Notice of Intent to Prepare an Environmental Assessment for the Proposed Louisiana Xpress Project, Request for Comments on Environmental Issues, and Notice of Public Scoping Session. The NOIs were sent to affected landowners; federal, state, and local government agencies; elected officials; environmental and public interest groups; Native American tribes; other interested parties; and local libraries and newspapers.

In response to the NOI for the Acadiana Project, the Commission received comments from the Louisiana Department of Wildlife and Fisheries and Cheniere Energy. The primary issues raised by the commentors are potential impacts on the wild coco orchid. The comment from Cheniere Energy was a statement in support of the Acadiana Project. In response to the NOI for the Louisiana Xpress Project, the Commission received comments from SKL Farm Inc., and the Choctaw Nation of Oklahoma. The primary issues raised by the commentors are adverse effects of artificial light, noise, and increased activity from the proposed compressor stations. The Choctaw Nation of Oklahoma requested GIS shapefiles, and the cultural resource surveys for the Louisiana Xpress Project. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-484 or CP19-488), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: September 24, 2019.
Nathaniel J. Davis, Sr.,
Deputy Secretary.

[FR Doc. 2019-21140 Filed 9-27-19; 8:45 am]

BILLING CODE 6717-01-P